DEPARTMENT OF LABOR

Bureau of Labor Statistics

Labor Research Advisory Council; Notice of Meetings and Agenda

The Spring meetings of committees of the Labor Research Advisory Council will be held on June 4, 5, and 6, 2001. All of the meetings will be held in the Conference Center, of the Postal Square Building (PSB), 2 Massachusetts Avenue, NE., Washington, DC.

The Labor Research Advisory Council and its committees advise the Bureau of Labor Statistics with respect to technical matters associated with the Bureau's programs. Membership consists of union research directors and staff members. The schedule and agenda of the meetings are as follows:

Monday, June 4, 2001

9:30 a.m.—Committee on Productivity, Technology and Growth—Meeting Room 9

1. Possible measurement bias in aggregate productivity measures: Update of Gullickson-Harper paper

2. Developments in industry productivity studies

3. Status of the 2000-10 projections

4. Topics for the next meeting

Committee on Foreign Labor Statistics

1. Update on activities of the Division of International Technical Cooperation

2. Preliminary report on development of hourly compensation measures for additional countries

3. Topics for the next meeting

1:30 p.m.—Committee on Employment and Unemployment Statistics—Meeting Room 9

1. Latest results from National Longitudinal Survey of Youth (NLSY)97 and NLSY79 surveys

2. Current Population Survey (CPS) topics:

a. Data on union membership

b. Update on the CPS-CES gap, based on latest information from 2000 Census

c. Discussion of issues related to measuring labor force activity of the prison population

3. Developments in the Local Area Unemployment Statistics and Mass Layoff Statistics programs

4. Topics for the next meeting

Tuesday, June 5, 2001

1:30 p.m.—Committee on Compensation and Working Conditions—Meeting Room 9

1. Welcome, Introductions

2. Update on data for the Federal white-collar pay setting process

3. Employee Benefits Survey: status and data availability

4. Data on working conditions from BLS

5. Bonuses, lump-sum payments, and other forms of variable pay

6. Topics for the next meeting

Wednesday, June 6, 2001

9:30 a.m.—Committee on Prices and Living Conditions—Meeting Room 9

1. Update on program developments

a. Consumer Price Index

b. International Price Indexes

c. Producer Price Indexes

2. Topics for the next meeting

1:30 p.m.—Committee on Occupational Safety and Health Statistics—Meeting Room 9

1. Report on worker and case circumstances data from the 1999 Survey of Occupational Injuries and Illnesses

2. Discussion of changes to the Survey of Occupational Injuries and Illnesses resulting from the revision of the OSHA record keeping rule

3. Report on the status of the Survey of Respirator Use and Practices

4. Update on the introduction of the North American Industry Classification System into the Survey of Occupational Injuries and Ilnesses and the Census of Fatal Occupational injuries

5. Proposed FY 2002 budget

6. Topics for the next meeting

The meetings are open to the public. Persons planning to attend these meetings as observers may want to contact Wilhelmina Abner on 202-691-5970.

Signed at Washington, DC this 30th day of April, 2001.
Katharine G. Abraham,
Commissioner.

[FR Doc. 01-11907 Filed 5-10-01; 8:45 am]

BILLING CODE 4510-24-P